SMALL BUSINESS ADMINISTRATION

Disaster Declaration #12803 and #12804

Massachusetts Disaster Number MA-00040

AGENCY: U.S. Small Business Administration.

ACTION: Amendment 2.

SUMMARY: This is an amendment of the Presidential declaration of a major disaster for Public Assistance Only for the Commonwealth of Massachusetts (FEMA-4028-DR), dated 09/03/2011.

Incident: Tropical Storm Irene.

Incident Period: 08/27/2011 through 08/29/2011.

DATES: Effective Date: 10/20/2011.

Physical Loan Application Deadline Date: 11/02/2011.

Economic Injury (EIDL) Loan Application Deadline Date: 06/05/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the Commonwealth of Massachusetts, dated 09/03/2011, is hereby amended to include the following areas as adversely affected by the disaster.

Primary Counties:

Barnstable, Bristol, Dukes, Norfolk, Plymouth.

All other information in the original declaration remains unchanged.

(Catalog of Federal Domestic Assistance Numbers 59002 and 59008)

James E. Rivera,
Associate Administrator for Disaster Assistance.

[FR Doc. 2011-28168 Filed 10-28-11; 8:45 am]

BILLING CODE 8025-01-P